DEPARTMENT OF JUSTICE

Drug Enforcement Administration

Manufacturer of Controlled Substances; Notice of Registration

By Notice dated September 25, 2000, and published in the Federal Register on October 3, 2000, (65 FR 59018), Chattem Chemicals, Inc., 3801 St. Elmo Avenue, Building 18, Chattanooga, Tennessee 37409, made application by letter to the Drug Enforcement Administration (DEA) to be registered as a bulk manufacturer of the basic classes of controlled substances listed below:

Drug | Schedule
N-Ethylamphetamine (1475) | I
4-Methoxyamphetamine (7411) | I
2,5-Dimethoxyamphetamine (7396) | I
Difenoxin (9168) | I
Methylphenidate (1724) | II
Pentobarbital (2270) | II
Secobarbital (2315) | II
Diphenoxylate (9170) | II
Hydrocodone (9193) | II

The firm plans to bulk manufacture the listed controlled substances to produce products for distribution to its customers.

No comments or objections have been received. DEA has considered the factors in Title 21, United States Code, Section 823(a) and determined that the registration of Chattem Chemicals, Inc. to manufacture the listed controlled substances is consistent with the public interest at this time. DEA has investigated Chattem Chemicals, Inc. to ensure that the company's registration is consistent with the public interest. This investigation included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed above is granted.

Dated: January 25, 2001.
Laura M. Nagel,
Deputy Assistant Administrator, Office of Diversion Control, Drug Enforcement Administration.

[FR Doc. 01-3750 Filed 2-13-01; 8:45 am]

BILLING CODE 4410-09-M